DEPARTMENT OF THE INTERIOR

Bureau of Land Management

[ID-220-1220-MA]

Notice of Temporary Closure/Restriction Order of Castle Rocks State Park and Castle Rocks Inter-Agency Recreation Area Near Almo, ID

AGENCY: Bureau of Land Management, Interior.

ACTION: Notice.

SUMMARY: The Bureau of Land Management announces the temporary closure/restriction order of certain public lands in Cassia County. This closure/restriction order prohibits bolting and placement of fixed anchors to rocks, and overnight camping. This is to allow further time to analyze a fixed anchor management plan, and to protect cultural resources, soils, wildlife, and vegetation that may be impacted by campers.

DATES: A temporary closure/restriction order of this area expired on June 1, 2007. The order published today will again prohibit bolting and placement of fixed anchors to rocks, and overnight camping.

Effective Date: This closure/restriction order is effective on August 3, 2007 and shall remain effective until August 4, 2008.

FOR FURTHER INFORMATION CONTACT: Dennis Thompson, Burley Field Office, 200 South 15 East, Burley, ID 83318. Telephone (208) 677-6641.

SUPPLEMENTARY INFORMATION: The public lands affected by this closure/restriction order are all lands administered by the BLM within T. 15 S., R. 24 E., Sec. 8, Boise Meridian. This area is known as Castle Rocks State Park and Castle Rocks Inter-Agency Recreation Area. A closure/restriction order including time periods will be posted near the entry point at the Castle Rocks Ranch House and at the BLM Office located at 200 South, 15 East, Burley, Idaho.

Authority: This notice is issued under the authority of the 43 CFR 8364.1. Violations of this closure/restriction order are punishable by imprisonment not to exceed 12 months, and/or a fine not to exceed $1,000, and may be subject to the enhanced fines at 18 U.S.C. 3571.

Persons who are administratively exempt from the closure/restriction order contained in this notice include: Any Federal, State, or local officers or employees acting within the scope of their official duty, members of any organized rescue or fire-fighting force in the performance of their official duty, and any person holding written authorization from the BLM.

Kenneth E. Miller,
Burley Field Office Manager.

[FR Doc. E7-15080 Filed 8-2-07; 8:45 am]

BILLING CODE 4310-GG-P